DEPARTMENT OF COMMERCE

Foreign-Trade Zones Board

[Docket 44-2009]

Foreign-Trade Zone 25—Port Everglades, FL; Application for Subzone South Florida Materials Corporation (Fuel Product Storage) Port Everglades, FL

An application has been submitted to the Foreign-Trade Zones Board (the Board) by Broward County, Florida, grantee of FTZ 25, requesting special-purpose subzone status for the fuel product distribution terminal of South Florida Materials Corporation (SFMC), located in Port Everglades, Florida. The application was submitted pursuant to the provisions of the Foreign-Trade Zones Act, as amended (19 U.S.C. 81a-81u), and the regulations of the Board (15 CFR part 400). It was formally filed on October 22, 2009.

The SFMC terminal (8 employees, 9.93 acres, 1.3 million barrel capacity) is located at 1200 SE. 32nd Street, Port Everglades, Florida. The facility primarily is used for the receipt, storage and distribution of jet fuel by pipeline to carriers operating at the Miami International and Fort Lauderdale International Airports. The company also uses the facility to store, blend and distribute gasoline, diesel fuel, biodiesel, biofuels and certain fuel blendstocks, including ethanol. The company is not requesting to blend foreign status products in the proposed subzone. Some of the products are or will be sourced from abroad or from U.S. refineries under FTZ procedures. Duty rates range from duty-free to 52.5 cents/barrel to 7% ad valorem for fuel products, duty-free to 6.5% for biofuels, and 1.9%-2.5% + 14.27 cents/liter for ethanol.

Zone procedures would exempt SFMC from customs duties and Federal excise taxes on foreign status jet fuel used for international flights, some 20-35 percent of the terminal's shipments. On domestic sales, the company would be able to defer duty payments on foreign status products until shipped from the facility and entered for consumption. The application indicates that the savings from FTZ procedures would help improve the facility's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is December 28, 2009. Rebuttal comments in response to material submitted during the foregoing period may be submitted during the subsequent 15-day period to January 12, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane_Finver@ita.doc.gov or (202) 482-1367.

Dated: October 22, 2009.
Andrew McGilvray,
Executive Secretary.

[FR Doc. E9-26100 Filed 10-28-09; 8:45 am]

BILLING CODE P